DEPARTMENT OF HEALTH AND HUMAN SERVICES

National Institutes of Health

Center for Scientific Review; Amended Notice of Meeting

Notice is hereby given of a change in the meeting of the Ethical, Legal, and Social Implications of Human Genetics Study Section, June 21, 2007, 7:30 a.m. to June 22, 2007, 4 p.m., The Watergate, 2650 Virginia Avenue, NW., Washington, DC, 20037 which was published in the Federal Register on May 17, 2007, 72 FR 27828-27830.

The starting time of the meeting on June 21, 2007 has been changed to 5:30 p.m. until adjournment. The meeting dates and location remain the same. The meeting is closed to the public.

Dated: May 21, 2007.
Jennifer Spaeth,
Director, Office of Federal Advisory Committee Policy.

[FR Doc. 07-2613 Filed 5-25-07; 8:45 am]

BILLING CODE 4140-01-M